DEPARTMENT OF COMMERCE

National Oceanic and Atmospheric Administration

Proposed Information Collection; Comment Request; Crab Rationalization (CR) Program: Annual Report

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 11, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, (907) 586-7008 or Patsy.Bearden@noaa.gov.

SUPPLEMENTARY INFORMATION:

I. Abstract

This request is for a new information collection.

Since implementation of the Crab Rationalization (CR) Program (prior to the 2005-2006 season), critics of the program have pointed to high lease rates, fleet consolidation, absentee quota share (QS) ownership, and changes in crew compensation as some of the program's greatest shortcomings.

At its December 2011 meeting, the North Pacific Fisheries Management Council (Council) requested and received a report from the National Marine Fisheries Service (NMFS) reviewing the performance of the CR Program during its first 5 years. Based on the report and public testimony, the Council identified certain aspects of the program that need additional attention. The Council requested a discussion paper concerning certain measures from CR cooperatives that might promote acquisition of QS by crew and other active participants and promote equitable crew compensation. The Council specifically requested that the paper examine the “best practice” requirements for cooperative agreements. The paper was presented to the Council at the February 2013 meeting.

After receiving the presentation of the paper, the Council passed a motion in February 2013 requesting that each cooperative in the CR Program voluntarily provide an annual report to the Council to describe the measures the cooperative is taking to increase the transfer of quota share to active participants and crew members. While the high flexibility allowed cooperatives in use of their IFQ has permitted QS holders to achieve operational efficiencies, it has also allowed for inactive QS holders and inequitable crew compensation. Holdings of inactive QS holders may limit the amount of QS on the market. One solution may be to require that any cooperative member must meet an active participation requirement.

The annual report would also describe measures the cooperative is taking to lower currently high lease rates and to increase currently low crew compensation. The high lease rates in the fisheries may contribute to the decline in revenues to persons who actively participate in the fisheries as vessel owners and crew. Lower lease rates may allow for more of the fisheries' revenues to be realized by vessel owners and crews. Crews in the crab fisheries are typically paid a share (or percentage) of adjusted vessel revenues, with adjustments made for normal vessel expenses, such as bait and fuel. Since implementation of the CR Program, many vessel operators have also made adjustments for QS lease payments. To limit the effects of the leasing market and to protect crews from the financial impacts of high lease rates, the amount of any lease payments charged to crews could be limited or capped.

The annual report should describe the effectiveness of the measures implemented through the cooperatives and the estimated level of member participation in any voluntary measures, and should include supporting information and data. These reports are to be provided to the Council at its October meeting.

II. Method of Collection

Respondents have a choice of either electronic or paper forms. Methods of submittal include email, mail, and facsimile transmission of paper forms.

III. Data

OMB Control Number: None.

Form Number: None.

Type of Review: Regular submission (request for a new collection).

Affected Public: Business or other for-profit organizations.

Estimated Number of Respondents: 10.

Estimated Time per Response: CR Cooperative Annual Report, 10 hours.

Estimated Total Annual Burden Hours: 100.

Estimated Total Annual Cost to Public: $50 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 8, 2013.
Gwellnar Banks,
Management Analyst, Office of the Chief Information Officer.

[FR Doc. 2013-08568 Filed 4-11-13; 8:45 am]

BILLING CODE 3510-22-P